DEPARTMENT OF THE INTERIOR

Bureau of Land Management

[BLM_NV_FRN_MO4500170457]

Notice of Availability of the Draft Environmental Impact Statement for the Bald Mountain Mine Plan of Operations Amendment, Juniper Project, White Pine County, Nevada

AGENCY: Bureau of Land Management, Interior.

ACTION: Notice of availability.

SUMMARY: In compliance with the National Environmental Policy Act of 1969, as amended (NEPA), and the Federal Land Policy and Management Act of 1976, as amended (FLPMA), the Bureau of Land Management (BLM) announces the availability of the Draft Environmental Impact Statement (EIS) for the Bald Mountain Mine Plan of Operations Amendment.

DATES: To afford the BLM the opportunity to consider comments in the Final EIS, please ensure that the BLM receives your comments within 45 days following the date the Environmental Protection Agency (EPA) publishes its Notice of Availability of the Draft EIS in the Federal Register.

ADDRESSES: The Draft EIS is available for review on the BLM ePlanning project website at https://go.usa.gov/xAm2g.

Written comments related to the Bald Mountain Mine Plan of Operations Amendment may be submitted by any of the following methods:

• ePlanning website: https://go.usa.gov/xAm2g

• Email: blm_nv_eydo_juniper_eis@blm.gov

• Mail: BLM Bristlecone Field Office, ATTN: BMM EIS Project, 702 North Industrial Way, Ely, Nevada 89301

Documents pertinent to this proposal may be examined online at https://go.usa.gov/xAm2g and at the Bristlecone Field Office.

FOR FURTHER INFORMATION CONTACT: Concetta Brown, Planning and Environmental Coordinator, telephone (775) 289-1885; address 702 North Industrial Way, Ely, Nevada 89301; email ccbrown@blm.gov. Individuals in the United States who are deaf, deafblind, hard of hearing, or have a speech disability may dial 711 (TTY, TDD, or TeleBraille) to access telecommunications relay services for contacting Ms. Brown. Individuals outside the United States should use the relay services offered within their country to make international calls to the point-of-contact in the United States.

SUPPLEMENTARY INFORMATION: KG Mining (Bald Mountain) Inc. (KG-BM) owns and operates the Bald Mountain Mine (BMM), a large-scale, open-pit gold mine primarily on public lands administered by the BLM Bristlecone Field Office. The BMM is in northwestern White Pine County, Nevada, approximately 60 miles southeast of the city of Elko, Nevada, and 60 miles northwest of Ely, Nevada. The BMM is on patented and unpatented Federal mining claims owned, leased, or otherwise controlled by KG-BM. The BMM has been in continuous operation for more than 40 years; therefore, mine areas and facilities are in various stages of development, operation, and reclamation. The BMM is subdivided into two plan of operation areas: the North Operations Area (NOA) and South Operations Area. KG-BM is proposing to amend its plan of operations for the NOA (NOA Plan) to enable continued mining, processing, exploration, and reclamation of the open pit mining operations and to reestablish underground mining. This is referred to as the Juniper Project.

Purpose and Need for the Proposed Action

The BLM's purpose for this Federal action is to evaluate and respond to KG-BM's proposed amendment to the NOA Plan in accordance with all applicable laws, regulations, and policies. The need for the action is established by the BLM's responsibility under FLPMA, the Mining Law of 1872, the BLM's surface management regulations (43 CFR 3809), and its use and occupancy regulations (43 CFR 3715), to respond to KG-BM's proposal while preventing unnecessary or undue degradation of public land.

As a cooperating agency for this EIS, the U.S. Fish and Wildlife Service's (USFWS) purpose for this Federal action is to evaluate and respond to KG-BM's proposed golden eagle nest removal and incidental take permit application in accordance with applicable laws, regulations, and policies. The USFWS's need for this action is established by the USFWS's responsibility under the Bald and Golden Eagle Protection Act to respond to KG-BM's request for a nest removal and incidental take permit authorization, while maintaining stable or increasing breeding populations in all golden eagle management units and the persistence of local populations throughout their geographic range.

BLM Proposed Action and Alternatives

KG-BM's proposed NOA Plan Amendment would develop, expand, modify, reconfigure, reclassify, realign, or eliminate select mine components or portions thereof in the NOA. Specifically, this action involves the expansion or modification (i.e., pit floor elevation change, backfill) of 7 authorized open pits (Redbird, Rat, Top, Poker Flats, Bida, Saga, and Winrock South), the development of the Royale and South Duke pits, the development of 3 rock disposal areas (RDAs) (Royale, South Duke RDA 2, and Bida), the modification of 13 authorized RDAs, and the elimination of a portion of the authorized but not yet constructed Poker Flats RDA. Modification or development is proposed for heap leach facilities, haul roads, interpit areas, process areas, ancillary areas, and support facilities (infrastructure).

Other aspects of the Juniper Project include conducting planned concurrent reclamation activities, implementing a growth media stockpile management program, applying a road design strategy to select haul roads, creating haul road placement zones for three haul roads, reestablishing the Top Pit underground mine, creating a sequencing and backfill schedule for the Poker Flats Pit, increasing the height of the Poker Flats heap, and reusing spent heap leach ore. Proposed non-surface disturbing activities involve administrative actions such as renaming authorized mine components or recategorizing authorized surface disturbance. The Juniper Project would extend the authorized NOA Plan boundary in 5 areas totaling 3,425 acres. Life-of-mine surface disturbance in the NOA would increase from 10,782 acres to 14,752 acres, resulting in a net surface disturbance increase of about 3,969 acres. Mine life would extend for an additional 11 years.

Alternative A

Alternative A was developed to address refinements to two designated mule deer migration corridors through the western portion of the NOA. Under Alternative A, some of the surface disturbance described in the Proposed Action would not be developed, some of the authorized but not constructed disturbance would be canceled, some partial pit backfilling would occur, and some of the existing surface disturbance would undergo concurrent reclamation. The Alternative A design modifications were developed in coordination with the Nevada Department of Wildlife and are intended to improve mule deer migration through the NOA and reduce energy expenditure of migrating mule deer compared to the Proposed Action. Alternative A would remove 6.9 acres of proposed new surface disturbance and 10.5 acres of authorized surface disturbance that would not be constructed, resulting in a 17.4-acre reduction in comparison with the Proposed Action. The total proposed surface disturbance under Alternative A would be about 14,735 acres. Alternative A is the same as the Proposed Action in all other respects.

No-Action Alternative

Under the No-Action Alternative, the BLM would not authorize the proposed NOA Plan Amendment. The Juniper Project would not be developed, and KG-BM would continue its construction, operations, closure, reclamation, and post-mining monitoring activities within the authorized NOA Plan boundary under the terms, permits, and approvals as authorized by the BLM and State of Nevada. Operations in the NOA would not be extended for an additional 11 years, and mine operations would continue as already authorized until an expected end-of-mine-life date of 2029. Under the No-Action Alternative, the USFWS would not issue an incidental take permit for golden eagles to KG-BM. The decision for the eagle take permit is independent of the BLM's decision of whether to authorize the Juniper Project. Under this alternative, the USFWS assumes that KG-BM would take reasonable steps to avoid taking eagles, but KG-BM would not be protected from enforcement for violating the Bald and Golden Eagle Protection Act should take of an eagle occur.

USFWS Proposed Action and Alternatives

Under the Eagle Conservation Plan Proposed Action, the USFWS would authorize the removal of up to 5 golden eagle nests and up to 15 incidents of take resulting from disturbance to breeding territories for up to 19 years as requested by KG-BM. Under this alternative, KG-BM would be required to implement nest protection buffers to ensure any ground disturbing activities do not exceed its permitted 15 incidental takes. Under the Eagle Conservation Permit Proposed Action, KG-BM would provide the compensatory mitigation as required by regulations to ensure that effects of take caused by KG-BM are offset at the population level. Additional mitigation for nest removals would also be required.

USFWS Preferred Alternative

Under the USFWS Preferred Alternative, the USFWS would issue a permit with increased take authorizations and experimental compensatory mitigation measures. Under this alternative, the USFWS would authorize up to 27 incidents of golden eagle take resulting from disturbance consistent with the USFWS risk assessment for a period of up to 30 years to allow for take coverage to extend into the mine closure and final reclamation phases. As required by regulation, KG-BM would provide compensatory mitigation for authorized take and additional mitigation for nest removals. Under this alternative, KG-BM would have increased flexibility to implement its mining activities without potentially needing to alter mining operation or exploration plans.

USFWS No-Action Alternative

Under the USFWS No-Action Alternative, the USFWS would not issue an incidental take permit for golden eagles to KG-BM. For purposes of analyzing the USFWS No-Action Alternative, the USFWS assumes that KG-BM would implement all measures required by other agencies and jurisdictions to conduct the proposed Juniper Project, but the conservation measures proposed in the eagle incidental take permit application package would not be required. KG-BM may choose to implement some, none, or all of those conservation measures.

Lead and Cooperating Agencies

The BLM is the lead agency. The USFWS, U.S. Environmental Protection Agency, Nevada Department of Wildlife, Nevada Department of Conservation and Natural Resources Sagebrush Ecosystem Technical Team, City of Ely, White Pine County Commisioners, and Eureka and Elko Counties are cooperating agencies on this EIS.

Schedule for the Decision-Making Process

The final EIS is tentatively scheduled for Fall of 2023 with a Record of Decision in the Winter of 2023/2024.

Draft EIS Review Process

On March 31, 2022, a notice of intent to prepare an EIS was published in the Federal Register, announcing the beginning of the public scoping process. Virtual public scoping meetings were held on April 19, 2022, and April 21, 2022. During the scoping period, 19 unique submittals were received containing a total of 206 discrete comments. The three categories that received the most comments were associated with water quality and quantity, special status species, and air quality, including greenhouse gases and climate change.

This notice of availability initiates the draft EIS review process. The BLM will be holding two public meetings in the following locations: an in-person meeting in Ely, Nevada, and a virtual meeting. The specific dates, locations, and information on how to join these meeting will be announced at least 15 days in advance through local media and on the BLM website at: https://go.usa.gov/xAm2g.

Public review of the draft EIS provides an opportunity for meaningful collaborative public engagement and allows the public to provide substantive comments, such as identification of factual errors, data gaps, relevant methods, or scientific studies. The BLM will respond to substantive comments by making appropriate revisions to the EIS or explaining why a comment did not warrant a change.

The BLM will continue to consult with Indian Tribal Nations on a government-to-government basis in accordance with Executive Order 13175, BLM MS 1780, and other Departmental policies. Tribal concerns, including impacts on Indian trust assets and potential impacts to cultural resources, will be given due consideration. Consultation will continue on an individual basis with interested tribes.

Before including your address, phone number, email address, or other personal identifying information in your comment, you should be aware that your entire comment—including your personal identifying information—may be made publicly available at any time. While you can ask us in your comment to withhold your personal identifying information from public review, we cannot guarantee that we will be able to do so.

(Authority: 40 CFR 1506.6, 40 CFR 1506.10)

Jon K. Raby,
State Director, Nevada State Office, Bureau of Land Management.

[FR Doc. 2023-17783 Filed 8-17-23; 8:45 am]

BILLING CODE 4331-21-P